SECURITIES AND EXCHANGE COMMISSION

Sunshine Act Meeting

Notice is hereby given, pursuant to the provisions of the Government in the Sunshine Act, Public Law 94-409, that the Securities and Exchange Commission will hold its annual forum on small business capital formation on November 18, 2010 beginning at 9 a.m.

The forum will include a panel discussion focusing on selected provisions of the Dodd-Frank Wall Street Reform and Consumer Protection Act relating to securities regulation and small business and presentations by private organizations concerned with small business capital formation.

The panel discussion and presentations will take place in the Auditorium of the Commission's headquarters at 100 F Street, NE., Washington, DC and will be open to the public with seating on a first-come, first-served basis. Doors will open at 8:30 a.m. Visitors will be subject to security checks.

For further information, please contact Anthony Barone at 202-551-3261.

November 10, 2010.
Elizabeth M. Murphy,
Secretary.

[FR Doc. 2010-28865 Filed 11-12-10; 11:15 am]

BILLING CODE 8011-01-P